INTERNATIONAL TRADE COMMISSION

[Investigation No. 332-459]

Advice Concerning Possible Modifications to the U.S. Generalized System of Preferences, 2003 Review

AGENCY: United States International Trade Commission.

ACTION: Institution of investigation and scheduling of hearing.

EFFECTIVE DATE: February 19, 2004.

SUMMARY: Following receipt on February 13, 2004 of a request from the United States Trade Representative (USTR) under section 332(g) of the Tariff Act of 1930 (19 U.S.C. 1332 (g)), the Commission instituted investigation No. 332-459, Advice Concerning Possible Modifications to the U.S. Generalized System of Preferences, 2003 Review.

FOR FURTHER INFORMATION CONTACT: Information specific to this investigation may be obtained from Cynthia B. Foreso (202-205-3348 or foreso@usitc.gov) or Eric Land (202-205-3349 or land@usitc.gov), Office of Industries, United States International Trade Commission, Washington, DC 20436. For information on legal aspects of the investigation, contact William Gearhart of the Office of the General Counsel (202-205-3091 or wgearhart@usitc.gov). General information concerning the Commission may also be obtained by accessing its Internet server (http://www.usitc.gov).

Background: As requested by the USTR, in accordance with sections 503(a)(1)(A), 503(e), and 131(a) of the Trade Act of 1974 (1974 Act), and under section 332(g) of the Tariff Act of 1930, the Commission will provide advice as to the probable economic effect on U.S. industries producing like or directly competitive articles and on consumers of the elimination of U.S. import duties for all beneficiary countries under the GSP for HTS subheadings 8708.92.50 and 8714.92.10. In providing its advice on these articles, the USTR asked that the Commission assume that the benefits of the GSP would not apply to imports that would be excluded from receiving such benefits by virtue of the competitive need limits specified in section 503(c)(2)(A) of the 1974 Act.

As requested under section 332(g) of the Tariff Act of 1930, the Commission will provide advice as to the probable economic effect on U.S. industries producing like or directly competitive articles and on consumers of the removal from eligibility for duty free treatment under the GSP of HTS subheadings 2917.12.10, 3901.10.00 (pt.), 3901.20.00 (pt.), 3907.60.0010, and 3920.62.00.

As requested under section 332(g) of the Tariff Act of 1930 and in accordance with section 503(d)(1)(A) of the 1974 Act, the Commission will provide advice on whether any industry in the United States is likely to be adversely affected by a waiver of the competitive need limits specified in section 503(c)(2)(A) of the 1974 Act for Argentina for HTS subheading 4107.11.80; for Thailand for HTS subheading 7615.19.30; and for Indonesia for HTS subheading 8525.40.80.

With respect to the competitive need limit in section 503(c)(2)(A)(i)(I) of the 1974 Act, the Commission, as requested, will use the dollar value limit of $110,000,000.

As requested by the USTR, the Commission will seek to provide its advice not later than May 13, 2004.

Public Hearing: A public hearing in connection with this investigation is scheduled to begin at 9:30 a.m. on March 31, 2004, at the U.S. International Trade Commission Building, 500 E Street SW., Washington, DC. Requests to appear at the public hearing should be filed with the Secretary, no later than 5:15 p.m., March 4, 2004 in accordance with the requirements in the “Submissions” section below. In the event that, as of the close of business on March 4, 2004, no witnesses are scheduled to appear at the hearing, the hearing will be canceled. Any person interested in attending the hearing as an observer or non-participant may call the Secretary (202-205-2000) after March 4, 2004, to determine whether the hearing will be held.

Statements and Briefs: In lieu of or in addition to participating in the hearing, interested parties are invited to submit written statements or briefs concerning the investigation in accordance with the requirements in the “Submissions” section below. Any prehearing briefs or statements should be filed not later than 5:15 p.m., March 5. 2004; the deadline for filing post-hearing briefs or statements is 5:15 p.m., April 2, 2004.

Submissions: All written submissions including requests to appear at the hearing, statements, and briefs, should be addressed to the Secretary, United States International Trade Commission, 500 E Street SW, Washington, DC 20436. All written submissions must conform with the provisions of section 201.8 of the Commission's Rules of Practice and Procedure (19 CFR 201.8); any submissions that contain confidential business information must also conform with the requirements of section 201.6 of the Commission's Rules of Practice and Procedure (19 CFR 201.6). Section 201.8 of the rules require that a signed original (or a copy designated as an original) and fourteen (14) copies of each document be filed. In the event that confidential treatment of the document is requested, at least four (4) additional copies must be filed, in which the confidential information must be deleted. Section 201.6 of the rules require that the cover of the document and the individual pages clearly be marked as to whether they are the “confidential” or “nonconfidential” version, and that the confidential business information be clearly identified by means of brackets.

The Commission may include confidential business information submitted in the course of this investigation in the report to the USTR. All written submissions, except for confidential business information, will be made available for inspection by interested parties. In the public version of the report, however, the Commission will not publish confidential business information in a manner that could reveal the operations of the firm supplying the information.

The Commission's rules do not authorize filing submissions with the Secretary by facsimile or electronic means, except to the extent permitted by section 201.8 of the Commission's Rules (19 CFR 201.8)(see Handbook for Electronic Filing Procedures, ftp://ftp.usitc.gov/pub/reports/electronic_filing_handbook.pdf). Persons with questions regarding electronic filing should contact the Secretary (202-205-2000 or edis@usitc.gov.)

The public record for this investigation may be viewed on the Commission's electronic docket (EDIS) at http://edis.usitc.gov. Hearing-impaired individuals are advised that information on this matter can be obtained by contacting our TDD terminal on (202) 205-1810. Persons with mobility impairments who will need special assistance in gaining access to the Commission should contact the Office of the Secretary at 202-205-2000.

By order of the Commission.
Issued: February 19. 2004.
Marilyn R. Abbott,
Secretary to the Commission.

[FR Doc. 04-4112 Filed 2-24-04; 8:45 am]

BILLING CODE 7020-02-P